DEPARTMENT OF JUSTICE

Notice of Lodging of Consent Decree Under the Clean Air Act

Notice is hereby given that on February 10, 2011 a proposed Consent Decree (“proposed Decree”) in United States v. CEMEX, Inc. and CEMEX Construction Materials Atlantic, LLC, Civil Action No. 3:11-cv-00037, was lodged with the United States District Court for the Southern District of Ohio.

In this action under Sections 113(b) and 167 of the Clean Air Act, 42 U.S.C. 7413(b) and 7477, the United States seeks injunctive relief and civil penalties for violations of the Prevention of Significant Deterioration (“PSD”) provisions of the Clean Air Act, 42 U.S.C. 7470-7492, and the PSD regulation incorporated into the federally enforceable Ohio State Implementation Plan (“Ohio SIP”), and Title V of the Clean Air Act, 42 U.S.C. 7661-7661f, and Title V's implementing federal and Ohio regulations, at a portland cement manufacturing plant located in Greene County, Ohio.

The proposed Decree resolves the United States' claims against CEMEX, Inc. and CEMEX Construction Materials Atlantic, LLC (“Defendants”) by requiring Defendants to install and operate appropriate emission controls at their kiln, and requires Defendants to pay a civil penalty of $1,400,000, two-thirds of which will go to the United States and one-third of which will go to the Plaintiff Intervener, the State of Ohio.

The Department of Justice will receive, for a period of thirty (30) days from the date of this publication, comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. CEMEX, Inc. and CEMEX Construction Materials Atlantic, LLC, D.J. Ref. No. 90-5-2-1-08990.

The proposed Decree may be examined at the office of the United States Attorney for the Southern District of Ohio, Room 602, Federal Building, 200 West Second Street, Dayton, Ohio 45402, and at the United States Environmental Protection Agency (Region 5) Records Center, Room 714, 77 West Jackson Boulevard, Chicago, Illinois 60604. During the public comment period, the proposed Decree may also be examined on the following Department of Justice Web site: http://www.usdoj.gov/enrd/ConsentDecrees.html. A copy of the proposed Decree may also be obtained via U.S. mail by making a written request to the Consent Decree Library, P.O. Box 7611, U.S. Department of Justice, Washington, DC 20044-7611, or by faxing or e-mailing a request to Tonia Fleetwood (tonia.fleetwood@usdoj.gov), fax number (202) 514-0097 (phone confirmation number (202) 514-1547). In requesting a copy from the Consent Decree Library, please enclose a check in the amount of $17.75 (25 cents per page reproduction cost) payable to the U.S. Treasury or, if requesting by e-mail or fax, please forward a check in that amount to the Consent Decree Library at the stated address.

Maureen Katz,
Assistant Chief, Environmental Enforcement Section, Environment and Natural Resources Division.

[FR Doc. 2011-3473 Filed 2-15-11; 8:45 am]

BILLING CODE 4410-15-P